DEPARTMENT OF JUSTICE

Office of Justice Programs

[OJP (NIJ) Docket No. 1537]

Draft NIJ Selection and Application Guide to Ballistic-Resistant Body Armor for Law Enforcement, Corrections, and Public Safety

AGENCY: National Institute of Justice.

ACTION: Notice of Draft NIJ Selection and Application Guide to Ballistic-Resistant Body Armor for Law Enforcement, Corrections, and Public Safety.

SUMMARY: In an effort to obtain comments from interested parties, the U.S. Department of Justice, Office of Justice Programs, National Institute of Justice (NIJ) will make available to the general public the draft “NIJ Selection and Application Guide to Ballistic-Resistant Body Armor for Law Enforcement, Corrections, and Public Safety.” The opportunity to provide comments on this document is open to industry technical representatives, criminal justice agencies and organizations, research, development and scientific communities, and all other stakeholders and interested parties. Those individuals wishing to obtain and provide comments on the draft document under consideration are directed to the following Web site: http://www.justnet.org.

DATES: The comment period will be open until January 21, 2011.

FOR FURTHER INFORMATION CONTACT: Casandra Robinson, by telephone at 202-305-2596 [Note: this is not a toll-free telephone number], or by e-mail at casandra.robinson@usdoj.gov.

Dr. John H. Laub,
Director, National Institute of Justice.

[FR Doc. 2010-31473 Filed 12-14-10; 8:45 am]

BILLING CODE 4410-18-P